DEPARTMENT OF HEALTH AND HUMAN SERVICES

Centers for Disease Control and Prevention

[60Day-08-08BB]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-0164 or send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Health Hazard Evaluation Program Customer Research—New—The National Institute for Occupational Safety and Health (NIOSH), Centers for Disease Control and Prevention (CDC).

Background and Brief Description

The Health Hazard Evaluation (HHE) Program was mandated by specific provision of the Occupational Safety and Health Act of 1970 and the Federal Mine Safety Act of 1977. Through the HHE Program, NIOSH responds to requests to identify chemical, biological or physical hazards in workplaces throughout the United States. An HHE Program evaluation can be requested by employers, employees, employee representatives, other federal agencies, and state and local agencies. NIOSH proposes conducting a program of quantitative and qualitative research to help ensure that the HHE Program is responsive to the needs of its customers and enhances the diversity of workplaces and hazards assessed. The information from this research will be used to develop a targeted marketing campaign to increase awareness of and access to HHE Program services. To begin, NIOSH will conduct a Web based survey of potential customers in the Food and Beverage Manufacturing or Services to Buildings and Dwellings industry who are responsible for workplace health and safety. The goals of the survey are to determine: (1) What percentage of customers are familiar with the HHE Program; (2) how customers surveyed prefer to receive occupational safety and health-related information, (3) what occupational safety and health communication products are most useful to customers surveyed; (4) what barriers prevent customers surveyed from using HHE Program resources; (5) what would motivate customers surveyed to use HHE Program resources; and (6) what are the top occupational safety and health concerns of those surveyed. This will be followed by qualitative research (focus groups) to determine (1) what concepts are most effective at raising awareness of the HHE Program with consumers, and (2) what messages should be used to inform customers about the HHE Program. The results from both phases of this research will be used to design and refine a targeted marketing campaign before materials are promoted and distributed nationally. Each phase will be conducted over a two to three month period.

There will be no cost to respondents other than their time.

Estimated Annualized Burden Hours
Type of respondent | Number of respondents | Number of responses per respondent | Average burden (in hours) | Total response burden hours
Customer Survey Respondent | 5,400 | 1 | 15/60 | 1,350
Customer Focus Group Screener | 216 | 1 | 15/60 | 54
Customer Focus Group Concept Testing Guide | 216 | 1 | 2 | 432
Customer Focus Group Material Testing Guide | 216 | 1 | 1.5 | 324
Total | 6048 |  |  | 2160

Dated: April 30, 2008.
Maryam I. Daneshvar,
Acting Reports Clearance Officer, Centers for Disease Control and Prevention.

[FR Doc. E8-10474 Filed 5-9-08; 8:45 am]

BILLING CODE 4163-18-P